DEPARTMENT OF EDUCATION

National Board for Education Sciences; Meeting

AGENCY: ED, Institute of Education Sciences, U.S. Department of Education.

ACTION: Notice of an Open Meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend the meeting.

DATES: June 20, 2012. Time: 8:30 a.m. to 5:00 p.m.

ADDRESSES: 80 F Street NW., Room 100, Washington, DC 20001.

FOR FURTHER INFORMATION CONTACT: Monica Herk, Executive Director, National Board for Education Sciences, 555 New Jersey Ave. NW., Room 602 K, Washington, DC, 20208; phone:(202) 208-3491; fax: (202) 219-1466; email: Monica.Herk@ed.gov.

SUPPLEMENTARY INFORMATION: The National Board for Education Sciences is authorized by Section 116 of the Education Sciences Reform Act of 2002 (ESRA), 20 U.S.C 9516. The Board advises the Director of the Institute of Education Sciences (IES) on, among other things, the establishment of activities to be supported by the Institute, on the funding for applications for grants, contracts, and cooperative agreements for research after the completion of peer review, and reviews and evaluates the work of the Institute.

On June 20, 2012, starting at 8:30 a.m., the Board will approve the agenda and hear remarks from the chair. John Easton, IES Director, and the Commissioners of the national centers will give an overview of recent developments at IES.

From 9:30 to 10:45 a.m., Board members will discuss the topic, “Communicating Research Effectively to Diverse Audiences”. Rebecca Maynard, Commissioner of the National Center on Education Evaluation and Regional Assistance, will provide an update on the What Works Clearinghouse Web site, followed by a presentation by John Hutchins, Communications Director at MDRC, about MDRC's approach to communicating research findings. A break will take place from 10:45 to 11:00 a.m.

From 11:00 a.m. to 12:15 p.m., the Board will consider the topic, “Recent Research on Instructional Quality”. Following opening presentations by Douglas Staiger of Dartmouth University and by Helen Ladd of Duke University, Board members will engage in roundtable discussion of the issues raised. The meeting will break for lunch from 12:15 to 12:45 p.m.

At 12:45 p.m. Board members will travel to 400 Maryland Avenue SW. in Washington, DC in order for four recently appointed Board members—David Chard, Adam Gamoran, Judith Singer, and Hirokazu Yoshikawa—to be sworn in by Secretary of Education Arne Duncan at 1:30 p.m.

Following its return from the swearing-in ceremony, the Board meeting will resume from 2:15 to 3:30 p.m. to discuss the topic, “IES's Peer Review Process: Review Panel Criteria, Recruitment, and Training”. After opening remarks by Anne Ricciuti, IES's Deputy Director for Science, the Board will engage in roundtable discussion of the topic. An afternoon break will occur from 3:30 to 3:45 p.m.

From 3:45 to 4:45 p.m., the Board will discuss the recommendations of the May 2008 Board regarding reauthorization of the Education Sciences Reform Act. The Board will also discuss a draft Scientific Integrity Policy proposed for the U.S. Department of Education.

At 4:45 p.m., there will be closing remarks and a consideration of next steps from the IES Director and NBES Chair, with adjournment scheduled for 5:00 p.m.

There will not be an opportunity for public comment. However, members of the public are encouraged to submit written comments related to NBES to Monica Herk (see contact information above). A final agenda is available from Monica Herk (see contact information above) and is posted on the Board Web site http://ies.ed.gov/director/board/agendas/index.asp. Individuals who will need accommodations for a disability in order to attend the meeting (e.g., interpreting services, assistance listening devices, or materials in alternative format) should notify Monica Herk no later than June 6. We will attempt to meet requests for accommodations after this date but cannot guarantee their availability. The meeting site is accessible to individuals with disabilities.

Records are kept of all Board proceedings and are available for public inspection at 555 New Jersey Ave. NW., Room 602 K, Washington, DC 20208, from the hours of 9 a.m. to 5 p.m., Eastern Standard Time Monday through Friday.

Electronic Access to This Document: You may view this document, as well as all other documents of this Department published in the Federal Register, in text or Adobe Portable Document Format (PDF) on the Internet at the following site: www.ed.gov/news/fed-register/index.html.

To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

John Q. Easton,
Director, Institute of Education Sciences.

[FR Doc. 2012-13884 Filed 6-6-12; 8:45 am]

BILLING CODE 4000-01-P